DEPARTMENT OF ENERGY

Federal Energy Regulatory Commission

[Docket No. EL02-110-000]

New England Coalition On Nuclear Pollution and Citizens Awareness Network, Complainants, v. Vermont Yankee Nuclear Power Corporation, New England Power Company, Green Mountain Power Company, Central Vermont Public Service Corporation, Central Maine Power Company, Cambridge Electric Light Company, Northeast Utilities (Through Its Affiliates and Operating Companies Western Massachusetts Electric Company, Connecticut Light and Power Company, and Public Service Company of New Hampshire) and Entergy Corporation d/b/a Entergy Nuclear Vermont d/b/a ENVY, Respondents; Notice of Complaint

July 31, 2002.

Take notice that on July 30, 2002, The New England Coalition on Nuclear Pollution, Inc., and The Citizens Awareness Network, Inc., submitted a Complaint seeking a declaratory ruling and Order on an allegation that the July 22, 2002 agreement among Entergy Nuclear Vermont Yankee, Vermont Yankee Nuclear Power Corporation, Central Vermont Public Service Company, Green Mountain Power Company, Connecticut Light & Power, New England Power Company, Western Massachusetts Electric Company, Public Service Company Of New Hampshire, Central Maine Power, and Cambridge Electric Light Company, eliminates the right of non-Vermont ratepayers to a return of any excess Vermont Yankee decommissioning funds, violates 18 CFR 35.32(a)(7), has been placed in effect without filing in violation of 16 U.S.C. Sec. 824d, and is unlawful discrimination in violation of 16 U.S.C. Sec. 824d and Sec. 824e. Complainants request that the Commission give this matter fast-track consideration. Complainants further request that the Commission order Respondents to comply with 16 U.S.C. 824d by filing the July 22, 2002, Agreements in the manner required by 18 CFR part 35, and suspend the effectiveness of the July 22, 2002 Agreements until Respondents have filed them with the FERC and the 60-day suspension period has expired.

Copies of the Complaint were served via e-mail on the FERC listed corporate representatives of respondents.

Any person desiring to be heard or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. The answer to the complaint and all comments, interventions or protests must be filed on or before August 19, 2002. This filing is available for review at the Commission or may be viewed on the Commission's web site at http://www.ferc.gov using the “RIMS” link, select “Docket #” and follow the instructions (call 202-208-2222 for assistance). The answer to the complaint, comments, protests and interventions may be filed electronically via the Internet in lieu of paper; see 18 CFR 385.2001(a)(1)(iii) and the instructions on the Commission's web site under the “e-Filing” link. The Commission strongly encourages electronic filings.

Linwood A. Watson, Jr.
Deputy Secretary.

[FR Doc. 02-19771 Filed 8-5-02; 8:45 am]

BILLING CODE 6717-01-P